DEPARTMENT OF THE INTERIOR

Bureau of Land Management

[ES-030-1430-ET; WIES 51517]

Notice of Proposed Withdrawal and Transfer of Jurisdiction; Wisconsin

AGENCY: Bureau of Land Management, Interior.

ACTION: Notice.

SUMMARY: The Bureau of Land Management has received a petition/application from the United States Fish and Wildlife Service requesting that the Secretary of the Interior withdraw for a 50-year term 328.70 acres of public land from surface entry, and transfer administrative jurisdiction to the Secretary of the Interior, acting through the United States Fish and Wildlife Service, to protect and manage migratory bird and threatened and endangered species habitat. The land is located within the exterior boundaries of the Green Bay Islands National Wildlife Refuge System and was reserved for lighthouse purposes by Executive Orders dated December 11, 1848, and May 28, 1858. These orders will not be disturbed by the proposed withdrawal. This land presently is under the administrative jurisdiction of the United States Coast Guard, which recognizes that wildlife refuge management will make better use of the land than its current outdated use for lighthouse purposes. This notice provides an opportunity to comment on the proposed withdrawal and to request a public meeting.

DATES: Comments and requests for a public meeting must be received by July 18, 2007. Electronic format submittals will not be accepted.

ADDRESSES: Comments and meeting requests should be sent to the State Director, Bureau of Land Management-Eastern States, 7450 Boston Boulevard, Springfield, Virginia 22153.

FOR FURTHER INFORMATION CONTACT: Ida Doup, Bureau of Land Management-Eastern States, 703-440-1541, or at the above stated address.

SUPPLEMENTARY INFORMATION: The United States Fish and Wildlife Service has filed a petition/application to withdraw the following described public land from settlement, sale, location, or entry under the public land laws for a 50-year term, subject to valid existing rights:

Fourth Principal Meridian

T. 33 N., R. 29 E.,

Sec. 26, lots 1 and 2;

Sec. 27, lots 1, 2 and 3.

T. 33 N., R. 29 E.,

Sec. 1, NE¼NW¼.

The area described contains 328.70 acres in Door County known as Plum and Pilot Islands.

The purpose of the proposed withdrawal is to protect important native and migratory bird habitat, threatened and endangered species habitat, and historic resources in the Great Lakes Basin Ecosystem. Management of the land would transfer from the United States Coast Guard to the United States Fish and Wildlife Service with the proposed withdrawal.

There are no suitable alternative sites as the lands described lie within the approved boundary of the Green Bay National Wildlife Refuge and contain the resources that need protection.

A right-of-way or cooperative agreement would not provide the necessary administrative controls to adequately protect and manage the area in conjunction with, and on the same basis as the rest of the Refuge, or for the purposes for which the Refuge was established.

No water rights would be needed to fulfill the purpose of the requested withdrawal.

For a period of 90 days from the date of publication of this notice, all persons who wish to submit comments, suggestions, or objections in connection with the proposed withdrawal may present their views in writing to the State Director of the Bureau of Land Management-Eastern States at the address listed above.

Notice is hereby given that an opportunity for a public meeting is afforded in connection with the proposed withdrawal. All interested persons who desire a public meeting for the purpose of being heard on the proposed withdrawal must submit a written request to the State Director, Bureau of Land Management-Eastern States within 90 days from the date of publication of this notice. If the authorized officer determines that a public meeting will be held, a notice of the time and place will be published in the Federal Register at least 30 days before the scheduled date of the meeting.

Comments, including names and street addresses of respondents, will be available for public review at the Bureau of Land Management-Eastern States, 7450 Boston Boulevard, Springfield, Virginia 22153, during regular business hours. Individual respondents may request confidentiality. If you wish to withhold your name or address from public review or from disclosure under the Freedom of Information Act, you must state this prominently at the beginning of your comments. Such requests will be honored to the extent allowed by law. All submissions from organizations or businesses, and from individuals identifying themselves as representatives or officials of organizations or businesses, will be made available for public inspection in their entirety.

The proposed withdrawal will be processed in accordance with the regulations set forth in 43 CFR part 2300.

(Authority: 43 CFR 2310.3-1)

Michael D. Nedd,
State Director, Eastern States.

[FR Doc. E7-7429 Filed 4-18-07; 8:45 am]

BILLING CODE 4310-55-P